DEPARTMENT OF COMMERCE

International Trade Administration

[A-351-806]

Silicon Metal from Brazil: Amended Final Results of Antidumping Duty Administrative Review in Accordance with Court Decision

AGENCY: Import Administration, International Trade Administration, U.S. Department of Commerce

ACTION: Notice of Amended Final Results of Antidumping Duty Administrative Review in accordance with Court Decision

SUMMARY: On August 27, 2001, the United States Court of International Trade (“CIT”)affirmed the remand determination of the 1994-95 administrative review for Companhia Ferroligas Minas Gerais-Minasligas (“Minasligas”), Companhia Brasilerira Carbureto de Calcio (“CBCC”), Eletrosilex Belo Horizonte (“Eletrosilex”), and Rima Industrial S/A (“RIMA”) by the Department of Commerce (“the Department”) arising from the antidumping duty order on silicon metal from Brazil. See American Silicon Technologies v. United States, No. 97-02-00267, Slip Op. 2001-109 (August 27, 2001). CBCC timely appealed the CIT's judgment. On January 15, 2002 the CIT stayed its judgment and extended the injunction solely in respect to CBCC's entries. See American Silicon Technologies v. United States, No. 97-02-00267, Slip Op. 2002-5 (January 15, 2002). After recalculation of the dumping margins for Minasligas, Eletrosilex, and RIMA, we are amending the final results of the review in this matter. We will instruct the U.S. Customs Service to liquidate Electrosilex, Minasligas, and RIMA's entries subject to these amended final results.

EFFECTIVE DATE: May 17, 2002.

FOR FURTHER INFORMATION CONTACT: Marlene Hewitt, Antidumping/Countervailing Duty Enforcement, Import Administration, International Trade Administration, U.S. Department of Commerce, 14th Street and Constitution Avenue, N.W.,Washington DC 20230; telephone (202) 482-1385.

SUPPLEMENTARY INFORMATION:

Background

On July 31, 1991 the Department issued an antidumping duty order on silicon metal from Brazil. See Antidumping Duty Order: Silicon Metal from Brazil, 56 FR 36135 (July 31, 1991). On January 14, 1997, the Department published its final results of the 1994-1995 administrative review (fourth review) of silicon metal for five Brazilian manufacturers/exporters, CBCC, Minasligas, Eletrosilex, RIMA, and Camargo Correa Metais (“CCM”). See Silicon Metal from Brazil; Final Results of Antidumping Administrative Review and Determination Not to Revoke in Part, 62 FR 1970 (January 14, 1997) (“Final Results”).

On August 18, 1997, the U.S. Court of International Trade (“CIT”) issued an order directing the Department to consider the alleged ministerial errors and correct any ministerial errors identified in the allegations and contained in the Final Results. See American Silicon Technologies v. United States, No. 97-02-00267, Slip Op. 97-113 (August 18, 1997). The Department subsequently corrected the ministerial errors and published an amended final. See Silicon Metal from Brazil; Amended Final Results of Antidumping Administrative Review, 62 FR 54087 (October 17, 1997) (“Amended Final Results”).

On April 9, 1999 the CIT issued an order remanding to the Department the Amended Final Results. See American Silicon Technologies v. United States, No. 97-02-00267, Slip Op. 99-34 (April 9, 1999). In its April 9, 1999 order, the CIT instructed the Department to: recalculate CBCC's financial expenses with the instruction that Commerce base those expenses upon the consolidated financial statements of CBCC and its immediate parent Solvay do Brasil; recalculate cost of production (“COP”) for Minasligas based upon an accounting methodology which is non-distortive and reasonably reflective of actual costs; reconsider CBCC's depreciation expenses; reconsider RIMA's COP and constructed value (“CV”); reconsider Electrosilex's financial expenses; reconsider CBCC's and RIMA's COP and CV regarding cost of internally-produced charcoal; reconsider CBCC's and RIMA's COP and CV regarding supervisory labor costs; reconsider CBCC's CV regarding IPI taxes; reconsider Rima's and CBCC's CV profit regarding profit ratios determined from non-CBCC financial statements; reconsider Minasligas' interest income expense; and reconsider Minasligas' CV profit. The CIT affirmed the Amended Final Results as to all other issues.

On September 23, 1999, the Department filed its redetermination on remand.

On August 27, 2001, the CIT sustained the Department's redetermination on remand. See American Silicon Technologies v. United States, No. 97-02-00267, Slip Op. 2001-109 (August 27, 2001).

CBCC timely appealed the CIT's judgment. On January 15, 2002 the CIT stayed its judgment and extended the injunction solely in respect to CBCC's entries. See American Silicon Technologies v. United States, No. 97-02-00267, Slip Op. 2002-5 (January 15, 2002).

Litigation in this case is final and conclusive for Minasligas, Eletrosilex, CCM, and RIMA. We are therefore amending our final results of review for the period July 1, 1994 through June 30, 1995.

The revised weighted-average margin for the above companies are as follows:

Manufacturer/Exporter | Margin (percent)
Minasligas | 9.68
Eletrosilex | 13.18
RIMA | 81.61
CCM | 35.23

Accordingly, the Department will determine, and the U.S. Customs Service (“Customs”) will assess, antidumping duties on all entries of subject merchandise from Minasligas, Eletrosilex, CCM, and RIMA, in accordance with these amended final results. For assessment purposes, we have calculated importer-specific duty assessment rates for each class or kind of merchandise based on the ratio of the total amount of antidumping duties calculated for the examined sales to the total quantity of sales examined. The Department will issue appraisement instructions directly to Customs. The above rate will not affect Minasligas, Eletrosilex, CCM, and RIMA's cash deposit rates currently in effect, which continue to be based on the margins found to exist in the most recently completed review.

This notice is published in accordance with sections 751(a)(1) and 777(i) of the Tariff Act (19 U.S.C. 1675(a)(1) and 1677f(i)) and 19 CFR 351.221.

Dated: May 13, 2002.
Faryar Shirzad,
Assistant Secretaryfor Import Administration.

[FR Doc. 02-12444 Filed 5-16-02; 8:45 am]

BILLING CODE 3510-DS-S